NATIONAL FOUNDATION ON THE ARTS AND THE HUMANITIES

Arts Advisory Panel Meeting

AGENCY: National Endowment for the Arts, National Foundation on the Arts and Humanities.

ACTION: Notice of meeting.

SUMMARY: Pursuant to Section 10(a)(2) of the Federal Advisory Committee Act (Pub. L. 92-463), as amended, notice is hereby given that 21 meetings of the Arts Advisory Panel to the National Council on the Arts will be held by teleconference from the National Endowment for the Arts, Constitution Center, 400 7th St. SW., Washington, DC 20506 as follows (all meetings are Eastern time and ending times are approximate):

Music (application review): This meeting will be closed.

Dates: November 13, 2014. 12:00 p.m. to 2:00 p.m.

Music (application review): This meeting will be closed.

Dates: November 13, 2014. 3:00 p.m. to 5:00 p.m.

Music (application review): This meeting will be closed.

Dates: November 14, 2014. 1:00 p.m. to 3:00 p.m.

Media Arts (application review): This meeting will be closed.

Dates: November 17, 2014. 2:00 p.m. to 4:30 p.m.

Media Arts (application review): This meeting will be closed.

Dates: November 18, 2014. 2:00 p.m. to 4:30 p.m.

Theater & Musical Theater (application review): This meeting will be closed.

Dates: November 18, 2014. 12:00 p.m. to 2:00 p.m.

Theater & Musical Theater (application review): This meeting will be closed.

Dates: November 18, 2014. 3:00 p.m. to 5:00 p.m.

Opera (application review): This meeting will be closed.

Dates: November 19, 2014. 12:00 p.m. to 1:30 p.m.

Opera (application review): This meeting will be closed.

Dates: November 19, 2014. 3:00 p.m. to 4:30 p.m.

Presenting & Multidisciplinary Works (application review): This meeting will be closed.

Dates: November 19, 2014. 2:00 p.m. to 4:00 p.m.

Arts Education (application review): This meeting will be closed.

Dates: November 20, 2014. 1:30 p.m. to 3:30 p.m.

Folk & Traditional Arts (application review): This meeting will be closed.

Dates: November 20, 2014. 2:00 p.m. to 4:00 p.m.

Local Arts Agencies (application review): This meeting will be closed.

Dates: November 20, 2014. 1:00 p.m. to 3:00 p.m.

Local Arts Agencies (application review): This meeting will be closed.

Dates: November 20, 2014. 3:30 p.m. to 5:30 p.m.

Theater & Musical Theater (application review): This meeting will be closed.

Dates: November 20, 2014. 12:00 p.m. to 2:00 p.m.

Theater & Musical Theater (application review): This meeting will be closed.

Dates: November 20, 2014. 3:00 p.m. to 5:00 p.m.

Folk & Traditional Arts (application review): This meeting will be closed.

Dates: November 21, 2014. 2:00 p.m. to 4:00 p.m.

Visual Arts (application review): This meeting will be closed.

Dates: November 24, 2014. 11:30 a.m. to 2:00 p.m.

Visual Arts (application review): This meeting will be closed.

Dates: November 24, 2014. 2:30 p.m. to 5:00 p.m.

Visual Arts (application review): This meeting will be closed.

Dates: November 25, 2014. 11:30 a.m. to 2:00 p.m.

Visual Arts (application review): This meeting will be closed.

Dates: November 25, 2014. 2:30 p.m. to 5:00 p.m.

FOR FURTHER INFORMATION CONTACT: Further information with reference to these meetings can be obtained from Ms. Kathy Plowitz-Worden, Office of Guidelines & Panel Operations, National Endowment for the Arts, Washington, DC 20506; plowitzk@arts.gov, or call 202/682-5691.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2012, these sessions will be closed to the public pursuant to subsection (c)(6) of section 552b of Title 5, United States Code.

Dated: November 6, 2014.
Kathy Plowitz-Worden,
Panel Coordinator, National Endowment for the Arts.

[FR Doc. 2014-26793 Filed 11-12-14; 8:45 am]

BILLING CODE 7537-01-P